DEPARTMENT OF AGRICULTURE

Forest Service

Procedures for Calculating Annual Fees for Recreation Residences

AGENCY: Forest Service, USDA.

ACTION: Notice of Issuance of Agency Interim Directive.

SUMMARY: The Forest Service is issuing an Interim Directive to Forest Service Handbook (FSH) 2709.11—Special Uses to provide guidance to its employees for calculating annual fees for recreation residence term special use permits during the 2-year transition period following the adoption of the final rule, directives, and appraisal guidelines promulgated pursuant to the Cabin User Fee Fairness Act (Pub. L. 106-291).

DATES: This Interim Directive is effective September 19, 2006.

ADDRESSES: This Interim Directive (ID_2709.11-2006-1) is available electronically from the Forest Service via the World Wide Web/Internet at http://www.fs.fed.us/im/directives. Single paper copies of the amendment are also available by contacting Rita Staton, Lands Staff (Mail Stop 1124), Forest Service, 1400 Independence Avenue, SW., Washington, DC 20250-1124 (telephone 202-205-1390).

FOR FURTHER INFORMATION CONTACT: Rita Staton, Lands Staff (202-205-1390).

SUPPLEMENTARY INFORMATION: Forest Service Handbook (FSH) 2709.11, Chapter 30 was revised in April 2006, to reflect changes in determining cabin user fees for recreation residences. The April revision reflects the provisions of the Cabin User Fee Fairness Act of 2000, and was adopted after notice and comment in the Federal Register on April 3, 2006 (71 FR 16614).

The Interim Directive revises two paragraphs to provide specific beginning and ending dates to verbiage referencing the 2-year transition period, which began on May 3, 2006 and continues until May 2, 2008. The Interim Directive adds direction for calculating recreation residence fees during the 2-year transition period and adds three exhibits to display sample recreation residence fee calculations.

Dated: September 7, 2006.
Dale N. Bosworth,
Chief.

[FR Doc. E6-15500 Filed 9-18-06; 8:45 am]

BILLING CODE 3410-11-P